SECURITIES AND EXCHANGE COMMISSION

[File No. 500-1]

China Cablecom Holdings Ltd., Order of Suspension of Trading

September 5, 2013.

It appears to the Securities and Exchange Commission that there is a lack of current and accurate information concerning the securities of China Cablecom Holdings Ltd. (n/k/a China Cablecom Ltd.) because it has not filed any periodic reports since the period ended December 31, 2010.

The Commission is of the opinion that the public interest and the protection of investors require a suspension of trading in the securities of the above-listed company. Therefore, it is ordered, pursuant to Section 12(k) of the Securities Exchange Act of 1934, that trading in the securities of the above-listed company is suspended for the period from 9:30 a.m. EDT on September 5, 2013, through 11:59 p.m. EDT on September 18, 2013.

By the Commission.
Jill M. Peterson,
Assistant Secretary.

[FR Doc. 2013-21970 Filed 9-5-13; 4:15 pm]

BILLING CODE 8011-01-P